ENVIRONMENTAL PROTECTION AGENCY

[ER-FRL-9047-4]

Environmental Impact Statements; Notice of Availability

Responsible Agency: Office of Federal Activities, General Information 202-564-5632 or https://www.epa.gov/nepa/.

Weekly receipt of Environmental Impact Statements

Filed 09/30/2019 10 a.m. ET Through 10/07/2019 10 a.m. ET

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190245, Draft, BLM, ID, Tri-State Fuel Breaks Project, Comment Period Ends: 11/25/2019, Contact: Lance Okeson 208-384-3486

EIS No. 20190246, Final, USFS, MT, Gold Butterfly, Review Period Ends: 11/12/2019, Contact: Matt Anderson 406-363-7121

EIS No. 20190247, Final, BR, CA, Long-Term Water Transfers, Review Period Ends: 11/12/2019, Contact: Russ Grimes 916-978-5051

EIS No. 20190248, Draft, TVA, TN, Allen Fossil Plant Ash Impoundment Closure Draft Environmental Impact Statement, Comment Period Ends: 11/25/2019, Contact: W. Douglas White 865-632-2252

EIS No. 20190249, Final, FHWA, OR, Salem River Crossing Project (OR99E-Business, OR22, OR221), Contact: Emily Cline 503-939-3742. Pursuant to 23 U.S.C. 139(n)(2), FHWA has issued a combined FEIS and ROD. Therefore, the 30-day wait/review period under NEPA does not apply to this action.

EIS No. 20190250, Draft, USFS, WY, 2020 Thunder Basin National Grassland Plan Amendment, Comment Period Ends: 01/09/2020, Contact: Monique Nelson 307-275-0956

EIS No. 20190251, Final, BLM, AK, Final Environmental Impact Statement for the Proposed Haines Amendment to the Ring of Fire Resource Management Plan, Review Period Ends: 11/12/2019, Contact: Marnie Graham 907-822-3217

Amended Notice

EIS No. 20150082, Final, BR, CA, Long-term Water Transfers, Contact: Russ Grimes 916-978-5051. Revision to FR Notice Published 03/27/2015; Officially Withdrawn per request of the submitting agency.

Dated: October 8, 2019.
Cindy S. Barger,
Acting Director, Office of Federal Activities.

[FR Doc. 2019-22293 Filed 10-10-19; 8:45 am]

BILLING CODE 6560-50-P